SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB)

Office of Management and Budget,

Attn: Desk Officer for SSA,

Fax: 202-395-6974,

E-mail address: OIRA_Submission@omb.eop.gov.

(SSA)

Social Security Administration, DCBFM,

Attn: Reports Clearance Officer,

1333 Annex Building,

6401 Security Blvd.,

Baltimore, MD 21235,

Fax: 410-965-6400,

E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Development for Participation in a Vocational Rehabilitation or Similar Program—20 CFR 404.316(c), 404.337(c), 404.352(d), 404.1586(g), 404.1596, 404.1597(a), 404.327, 404.328, and 416.1338(c) and (d) 416.1320(d), 416.1331(a)-(b), and 416.1338—0960-0282. SSA State Disability Determination Services (DDS) must determine if a recipient of disability benefits whose disability has ceased but who is enrolled in a vocational rehabilitation program can continue to receive SSA benefits. To do this, information is needed about the beneficiary, the type of program he/she is enrolled in, and the types of services the beneficiary is receiving under the auspices of that program. Form SSA-4290 is used to collect this information. The respondents are State Employment Networks, Vocational Rehabilitation agencies, or other providers of education/job training services.

Type of Request: Extension of an OMB-approved information collection.

Number of Respondents: 3,000.

Frequency of Response: 1.

Average Burden Per Response: 15 minutes.

Estimated Annual Burden: 750 hours.

2. State Mental Institution Policy Review Booklet—20 CFR 404.2035, 404.2065, 416.635, & 416.665—0960-0110. The information collected by Form SSA-9584-BK is used by SSA to determine whether an institution's policies and practices conform with SSA's regulations in the use of benefits and whether the institution is performing other duties and responsibilities required of a representative payee. The information also provides a basis for conducting an onsite review of the institution and is used in the preparation of the subsequent report of findings. The respondents are State mental institutions which serve as representative payees for Social Security beneficiaries and Supplemental Security Income (SSI) claimants.

Type of Request: Extension of an OMB-approved information collection.

Number of Respondents: 95.

Frequency of Response: 1.

Average Burden Per Response: 60 minutes.

Estimated Annual Burden: 95 hours.

3. RS/DI Quality Review Case Analysis: Sampled Number Holder, Auxiliaries/Survivors, Parents, and Stewardship Annual Earnings Test Workbook—0960-0189. The information on Forms SSA-2930, SSA-2931 and SSA-2932 is used by the SSA to establish a national payment accuracy rate for all cases in payment status and to serve as a source of information regarding problem areas in the Retirement and Survivors Insurance (RSI) and Disability Insurance (DI) programs. The information is also used to measure the accuracy rate for newly adjudicated RSI/DI cases. SSA uses the information on form SSA-4659 to evaluate and determine the effectiveness of the annual earnings test and to use the results in developing ongoing improvements in the process.

Type of Request: Extension of an OMB-approved information collection.

Form | Number of respondents | Frequency of response | Average burden per response (minutes) | Estimated annual burden (hours)
SSA-2930 | 3,000 | 1 | 30 | 1,500
SSA-2931 | 1,500 | 1 | 30 | 750
SSA-2932 | 650 | 1 | 20 | 217
SSA-4659 | 325 | 1 | 10 | 54
Totals | 5,475 |  |  | 2,521

4. Employee Identification Statement—20 CFR 404.702—0960-0473. The information collected by Form SSA-4156 is used in scrambled earnings situations when two or more individuals have used the same Social Security Number (SSN), or when an employer (or employers) has reported earnings for two or more employees under the same SSN. The information on the form is used to help identify the individual (and the SSN) to whom the earnings belong. The respondents are employers involved in erroneous wage reporting.

Type of Request: Extension of an OMB-approved information collection.

Number of Respondents: 4,750.

Frequency of Response: 1.

Average Burden Per Response: 10 minutes.

Estimated Annual Burden: 792 hours.

5. Modified Benefit Formula Questionnaire-Employer—20 CFR 401 & 402—0960-0477. The information collected on Form SSA-58 is used by SSA to verify the claimant's allegations on Form SSA-150 (OMB No. 0960-0395). SSA must make a determination regarding whether the modified benefit formula is applicable and when to first apply it to a person's benefit. This form will be sent to an employer for pension related information if the claimant is unable to provide it. The respondents are people who are eligible after 1985 for both Social Security benefits and a pension based on work not covered by SSA.

Type of Request: Extension of an OMB-approved information collection.

Number of Respondents: 30,000.

Frequency of Response: 1.

Average Burden Per Response: 20 minutes.

Estimated Average Burden: 10,000 hours.

6. Contact with Representative Payee; Contact with Beneficiary—20 CFR 401 & 402—0960-0639. The Form SSA-L4945 is used to notify the representative payee that the case, for which they receive payment, has been randomly selected as part of the quality review procedure. The SSA-L4947 is used by SSA to notify the beneficiary that their case has been randomly selected as part of the quality review procedure. Both form letters give information relating to the claims record that should be verified and returned by mail in a self-addressed envelope. Respondents are a statistically valid sample of all RSI/DI beneficiaries in current pay status.

Type of Request: Extension of an OMB-approved information collection.

Number of Respondents: 200.

Frequency of Response: 1.

Average Burden Per Response: 15 minutes.

Estimated Annual Burden: 50 hours.

7. Modified Benefit Formula Questionnaire —20 CFR 404.1615-20, CFR 404.1512-20 & CFR 404.1588-1599—0960-0395. The purpose of the Windfall Elimination Provision (WEP) of the Social Security Act is to remove an unintended advantage in the computation of Social Security benefits for persons who have substantial pensions from non-covered employment. The SSA-150 collects the information needed to determine the correct formula to use in computing Social Security benefits. The respondents are claimants for Social Security benefits who are entitled to both benefits.

Type of Request: Extension of OMB-approved information collection

Number of Respondents: 90,000.

Frequency of Response: 1.

Average Burden Per Response: 8 minutes.

Estimated Annual Burden: 12,000 hours.

8. Disability Determination and Transmittal—20 CFR 404.1615(e), 416.1015(f)—0960-0437. The information collected on Form SSA-831-C3/U3 is used by SSA to document the State agency determination as to whether an individual who applies for disability benefits is eligible for those benefits based on his/her alleged disability. SSA also uses the information for program management and evaluation. The respondents are State DDS adjudicating Title II and Title XVI disability determinations for SSA.

Type of Request: Extension of OMB-approved information collection

Number of Respondents: 3,079,916.

Frequency of Response: 1.

Average Burden Per Response: 15 minutes.

Estimated Average Burden: 769,979 hours.

9. Cessation or Continuance of Disability or Blindness Determination—20 CFR 404.1615—0960-0443. The information on Form SSA-832-U3/C3 is used by SSA to document determinations as to whether an individual's disability benefits should be terminated or continued on the basis of his/her impairment. The respondents are State disability determination service employees adjudicating Title XVI Disability claims.

Type of Request: Extension of an OMB-approved information collection.

Number of Respondents: 200,753.

Frequency of Response: 1.

Average Burden Per Response: 30 minutes.

Estimated Annual Burden: 100,376 hours.

10. Authorization to Disclose Information to Social Security Administration—20 CFR 404.1512 & 20 CFR 416.912—0960-0623. SSA must obtain sufficient medical evidence to make eligibility determinations for Social Security disability benefits and SSI payments. For SSA to obtain medical evidence, an applicant must authorize his or her medical source(s) to release the information to SSA. The applicant may use one of the forms SSA-827, SSA-827-OP1 or SSA-827-OP2 to provide consent for the release of information. Generally, the State DDS completes the form(s) based on information provided by the applicant, and sends the form(s) to the designated medical source(s).

Type of Request: Revision of a currently approved information collection.

Number of Respondents: 3,853,928.

Frequency of Response (Average per case): 4.

Average Burden Per Response: 13 minutes to complete 4 forms.

Total Annual Responses: 15,415,712.

Estimated Annual Burden: 835,018 hours.

11. Request for Social Security Earnings Information—20 CFR 404.810 & 401.100—0960-0525. The Social Security Act provides that a wage earner, or someone authorized by a wage earner, may request Social Security earnings information from SSA using form SSA-7050. SSA uses the information collected on the form to verify that the requestor is authorized to access the earnings record and to produce the earnings statement. The respondents are wage earners and organizations and legal representatives authorized by the wage earner.

Type of Request: Extension of an OMB-approved information collection.

Number of Respondents: 60,000.

Frequency of Response: 1.

Average Burden Per Response: 11 minutes.

Estimated Annual Burden: 11,000 hours.

12. Employer Report of Special Wage Payments—20 CFR 404.428-404.429—0960-0565. SSA gathers the information on Form SSA-131 to prevent earnings-related overpayments to employees, and to avoid erroneous withholding of benefits. The respondents are employers who provide special wage payment verification.

Type of Request: Extension of an OMB-approved information collection.

Number of Respondents: 30,000.

Frequency of Response: 1.

Average Burden of Response: 20 minutes.

Estimated Average Burden: 10,000 hours.

13. Interim Assistance Reimbursement Matching Agreements—20 CFR 416-525—0960-NEW. SSA enters into Interim Assistance Reimbursement (IAR) agreements with states/counties/townships, to submit daily IAR reports either manually or electronically to SSA. The interim assistance (IA) agency provides the individual general assistance for meeting basic needs while an SSI claim is pending or SSI benefits were suspended or terminated. The IAR reports are used to reimburse participating State or local IA agency from an individual's initial retroactive SSI payment for funds it advanced to eligible individuals. These reports are compared against SSA's files to identify individuals who may become eligible to receive SSI payments, and the SSA record is updated to memorialize the agreement. If the claim is approved, SSA reimburses the state/county/township IA agency for funds it advanced to the eligible individuals. The respondents are State or local IA agencies who provide IAR reports either manually or electronically to SSA.

Type of Request: New information collection.

Collection instrument | Number of respondent | Frequency of response | Average burden per response (hours) | Estimated annual burden (hours)
Interim assistance reporting | 300 | 250 | 1 | 75,000
Model Agreement | 10 | 1 | 12 | 120
Total | 310 |  |  | 75,120

14. Social Security Statement Survey—0960-NEW.

Background

As per 42 U.S.C. 1320b-13, SSA is required to provide benefits and earnings statements to Social Security numberholders age 25 and over who earn wages. This document, which is provided annually, is called the Social Security Statement. In response to a recommendation from the General Accountability Office (GAO), SSA has begun a systematic and regular evaluation of customer satisfaction with the Statement.

Description of Proposed Surveys

Taking the evaluation process one step further, we are now planning to conduct a national survey to monitor and improve customer satisfaction with the messages in the 2007 Statement. The 2007 Statement contains new WEP/Government Pension Offset (GPO) language as mandated by law. There are two versions of the WEP/GPO language in the Statement to accommodate different groups of wage-earners: those who have an earnings history with both covered and non-covered earnings under Social Security and those who have only earnings covered under Social Security. Each group will receive a Statement with WEP/GPO language specific to them and will be surveyed to determine their satisfaction. Information obtained through this evaluation will help SSA improve the Statement as a communications product that meets SSA's goals and assures that the public is aware of, understands, and can act upon the information the Statement provides in a timely way. The respondents are two groups of wage earners: those who have an earnings history with both covered and non-covered earnings under Social Security, and those who have only earnings covered under Social Security.

Burden Information

Type of Request: New information collection.

| Number of respondents | Frequency of response | Average burden per response (minutes) | Estimated Annual Burden (hours)
Recipients with covered and non-covered earnings history | 600 | 1 | 10 | 100
Recipients with covered earnings only | 600 | 1 | 10 | 100
Total | 1200 |  | 200

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Sheltered Workshop Wage Reporting—0960-NEW.

Collection Background

Section 1612(1)(C) of the Social Security Act (the Act) and 42 U.S.C. 1382a define remuneration received for services performed in a sheltered workshop as earned income for the SSI program. The amount of monthly wages determines an individual's SSI benefit amount.

Collection Description

SSA has maintained a working relationship with sheltered workshops since the inception of the SSI program. Most workshops report monthly wage totals to the local SSA office so that the client's SSI check is adjusted timely and overpayments are prevented. While participation of the workshop is strictly voluntary, they are highly motivated to report the wages because it provides a service to their clients. Sheltered Workshop reporting reduces the number of overpayments to SSI recipients. Processing these wage reports electronically reduces the cost of administering the program. SSA uses the information collected to verify and post monthly wages to the SSI recipient's record. Respondents are sheltered workshops that report monthly wages for services performed in the workshop.

Type of Request: New information collection.

Number of Respondents: 1,000.

Frequency of Response: 12.

Average Burden Per Response: 5 minutes.

Estimated Annual Burden: 1,000 hours.

2. Request for Waiver of Special Veterans Benefits (SVB) Overpayment Recovery or Change in Repayment Rate—20 CFR 408.900-408.950, 408.923(b), 408.931(b), 408.932(c), (d) and (e), 408.941(b) and 408.942—0960-0698. Title VIII allows the payment of a monthly benefit by the Commissioner of Social Security to a qualified World War II veteran who resides outside the United States. When an overpayment in SVB occurs, the beneficiary can use this form to request waiver of recovery of the overpayment or a change in the repayment rate. The SSA-2032-BK will be used to obtain the information necessary to determine whether the provisions of the Act regarding waiver of recovery of the overpayment are met. The information on the form is needed to determine a repayment rate if repayment cannot be waived. The respondents are beneficiaries who have overpayments on their Title VIII record and wish to file a claim for waiver of recovery or change in repayment rate.

Type of Request: Extension of an OMB-approved information collection.

Number of Respondents: 39.

Frequency of Response: 1.

Average Burden Per Response: 120 minutes.

Estimated Annual Burden: 78 hours.

Dated: October 29, 2007.
Elizabeth A. Davidson,
Reports Clearance Officer, Social Security Administration.

[FR Doc. E7-21587 Filed 11-2-07; 8:45 am]

BILLING CODE 4191-02-P